ENVIRONMENTAL PROTECTION AGENCY

[FRL-8301-1]

Clean Air Act Operating Permit Program; Petition for Objection to South Dakota State Operating Permit for Pope & Talbot, Inc., Lumber Mill, Spearfish, SD

AGENCY: Environmental Protection Agency (EPA).

ACTION: Notice of direct final order.

SUMMARY: This notice announces that the EPA Administrator has responded to a citizens' petition asking EPA to object to a State operating permit issued by the South Dakota Department of Environmental and Natural Resources (DENR). Specifically, the Administrator has partially granted and partially denied the petition submitted by Jeremy Nichols, and the other Petitioners, to object to the issuance of the operating permit issued to Pope and Talbot, Inc., for its lumber mill, located in Spearfish, South Dakota.

Pursuant to section 505(b)(2) of the Clean Air Act (Act), Petitioners may seek judicial review of those portions of the petition which EPA denied in the United States Court of Appeals for the appropriate Circuit. Any petition for review shall be filed within 60 days of the date this notice appears in the Federal Register, pursuant to section 307(d) of the Act.

ADDRESSES: You may review copies of the final Order, the petition, and other supporting information at the Environmental Protection Agency, Region 8, 1595 Wynkoop Street, Denver, Colorado 80202-1129 after April 16, 2007. EPA requests that you contact the individual listed in the FOR FURTHER INFORMATION CONTACT section to view the copies of these documents. You may view these documents Monday through Friday, 8 a.m. to 4 p.m., excluding Federal holidays. If you wish to examine these documents, you should make an appointment at least 24 hours before the visiting day. The final Order is also available electronically at the each of the following addresses: http://www.epa.gov/region07/programs/artd/air/title5/petitiondb/petitions/pope_talbot_decision2006.pdf. and http://www.epa.gov/region07/programs/artd/air/title5/petitiondb/petitiondb2006.htm.

FOR FURTHER INFORMATION CONTACT: Christopher Ajayi, Environmental Engineer, Air and Radiation Program, Office of Partnerships and Regulatory Assistance, Mail Code 8P-AR, U.S. Environmental Protection Agency, Region 8, 1595 Wynkoop Street, Denver, CO 80202-1129, telephone (303) 312-6320, or e-mail at ajayi.christopher@epa.gov.

SUPPLEMENTARY INFORMATION: The Clean Air Act (Act) affords EPA a 45-day period to review and object to, as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the Petitioner demonstrates that it was impracticable to object during the comment period or that the grounds for the objection or other issue arose after this period.

On April 11, 2006, the EPA received a petition from Petitioners requesting that EPA object to the issuance of the Title V operating permit issued by South Dakota Department of Environmental and Natural Resources (DENR) to Pope and Talbot, Inc., to operate a lumber mill in Spearfish, South Dakota (“the Facility”).

The Petitioners request that EPA object to the issuance of the proposed permit and raise the following objections as the bases for their petition:

1. Permit fails to ensure compliance with Carbon Dioxide (CO) emission limits,

2. Permit lacks sufficient periodic monitoring of CO emissions,

3. Permit may need “schedule of compliance” because it fails to ensure that CO emission limits are below Prevention of Significant Deterioration (PSD) levels and thus not in compliance with PSD requirements,

4. Permit fails to ensure compliance with South Dakota State Implementation Plan (SIP) and Title V permit modification procedure in accordance with state of South Dakota's rule,

5. Permit fails to require sufficient periodic opacity monitoring,

6. Permit fails to require prompt reporting of opacity deviations,

7. Permit does not require “prompt” reporting,

8. Permit fails to subject the facility to Maximum Achievable Control Technology (MACT), and

9. Permit contains other Conditions (5.4, 6.1, 6.3 and 6.5) that warrant objection by the Administrator.

On March 22, 2007, the Administrator issued an Order partially granting and partially denying the petition. The Order explains the reasons for partially granting the petition and directs DENR to revise and/or remove specific permit language and/or discussions in the Statement of Basis. The Order also directs DENR to provide additional information to support certain permit Conditions. Finally, the Order explains the reasons for denying the petitioners' remaining claims.

Dated: April 4, 2007.
Kerrigan G. Clough,
Deputy Regional Administrator, Region 8.

[FR Doc. E7-7351 Filed 4-17-07; 8:45 am]

BILLING CODE 6560-50-P